DEPARTMENT OF LABOR

Employment and Training Administration

[TA-W-51,710]

Rayovac Corporation, Fennimore, Wisconsin; Notice of Termination of Investigation

Pursuant to Section 221 of the Trade Act of 1974, as amended, an investigation was initiated on May 7, 2003 in response to a petition filed by a company official on behalf of workers at Rayovac Corporation, Fennimore, Wisconsin.

The petitioner has requested that the petition be withdrawn. Consequently, the investigation has been terminated.

Signed at Washington, DC, this 11th day of June, 2003.
Linda G. Poole,
Certifying Officer, Division of Trade Adjustment Assistance.

[FR Doc. 03-15871 Filed 6-23-03; 8:45 am]

BILLING CODE 4510-30-P